DEPARTMENT OF THE INTERIOR

Bureau of Land Management

[ID-933-1430-ET; DK-G05-0002, IDI-08612, et al.]

Public Land Order No. 7644; Revocation of 4 Bureau of Reclamation Orders and 2 Public Land Orders; Idaho

AGENCY: Bureau of Land Management, Interior.

ACTION: Public land order.

SUMMARY: This order revokes 4 Bureau of Reclamation Orders and 2 Public Land Orders in their entirety as they affect 6,785.75 acres of lands withdrawn for the Minidoka Reclamation Project. This order opens 2,767.04 acres of public lands to all forms of appropriation under the public land laws, and 4,018.71 acres of lands to such uses as may be authorized by law on National Forest System lands. This order also opens all of the lands to the mining laws.

EFFECTIVE DATE: September 26, 2005.

FOR FURTHER INFORMATION CONTACT: Jackie Simmons, BLM Idaho State Office, 1387 S. Vinnell Way, Boise, Idaho 83709, 208-373-3867.

SUPPLEMENTARY INFORMATION: Copies of the original withdrawal orders containing a legal description of the lands involved are available from the BLM Idaho State Office at the address above.

Order

By virtue of the authority vested in the Secretary of the Interior by Section 204 of the Federal Land Policy and Management Act of 1976, 43 U.S.C. 1714 (2000), it is ordered as follows:

1. The following Bureau of Reclamation Orders and Public Land Orders, which withdrew a total of (a) 2,767.04 acres of public lands, and (b) 4,018.71 acres of National Forest System lands, for the Minidoka Reclamation Project, are hereby revoked in their entirety: Bureau of Reclamation Orders dated September 6, 1956 (22 FR 2741), January 25, 1957 (22 FR 1968), June 21, 1957 (23 FR 8361), and September 5, 1957 (23 FR 2130), and Public Land Order No's. 2170 (25 FR 7497), and 3083 (28 FR 5051).

2. At 9 a.m. on September 26, 2005, the lands referenced as (a) in Paragraph 1 will be opened to all forms of appropriation under the public land laws generally, subject to valid existing rights, the provisions of existing withdrawals, other segregations of record, and the requirements of applicable law. All valid applications received at or prior to 9 a.m. on September 26, 2005 shall be considered as simultaneously filed at that time. Those received thereafter shall be considered in the order of filing.

3. At 9 a.m. on September 26, 2005, the lands referenced as (b) in Paragraph 1 will be opened to such forms of disposition as may be authorized by law on National Forest System lands, subject to valid existing rights, the provisions of existing withdrawals, other segregations of record, and the requirements of applicable law.

4. At 9 a.m. on September 26, 2005, all of the lands referenced in Paragraph 1 will be opened to location and entry under the United States mining laws, subject to valid existing rights, the provisions of existing withdrawals, other segregations of record, and the requirements of applicable law. Appropriation of any of the lands identified in this order under the general mining laws prior to the date and time of restoration is unauthorized. Any such attempted appropriation, including attempted adverse possession is governed by State law where not in conflict with Federal law. The Bureau of Land Management will not intervene in disputes between rival locators over possessory rights since Congress has provided for such determinations in local courts.

Dated: August 11, 2005.
Rebecca W. Watson,
Assistant Secretary—Land and Minerals Management.

[FR Doc. 05-16873 Filed 8-24-05; 8:45 am]

BILLING CODE 4310-GG-P